DEPARTMENT OF ENERGY

Federal Energy Regulatory Commission

[Docket Nos. EC06-16-000, et al.]

San Diego Gas & Electric Company, et al.; Electric Rate and Corporate Filings

October 27, 2005.

The following filings have been made with the Commission. The filings are listed in ascending order within each docket classification.

1. San Diego Gas & Electric Company and Palomar Energy, LLC

[Docket No. EC06-16-000]

Take notice that on October 25, 2005, San Diego Gas & Electric Company (SDG&E) and Palomar Energy, LLC (Palomar) (collectively, Applicants) filed with the Commission a joint application pursuant to section 203 of the Federal Power Act and section 1289 of the Energy Policy Act of 2005 for Commission approval of the transfer of interests in jurisdictional facilities. The transaction involves the sale by Palomar to SDG&E of a nominally rated 555 MW electric generating facility located in Escondido, California, which is interconnected with SDG&E's transmission system operated by the California Independent System Operator Corporation.

Comment Date: 5 p.m. Eastern Time on November 15, 2005.

2. Blue Spruce Energy Center, LLC

[Docket No. EG06-3-000]

Take notice that on October 18, 2005, Blue Spruce Energy Center, LLC (Blue Spruce), filed with the Commission an application for determination of exempt wholesale generator status pursuant to part 365 of the Commission's regulations.

Blue Spruce states that it previously obtained an exempt wholesale generator determination for its electric generating facility located at Aurora, Colorado. Blue Spruce states that it seeks a new determination that it will remain an exempt wholesale generator following expansion of the facility and other material changes.

Blue Spruce further states that copies of the application were served upon the United States Securities and Exchange Commission and Colorado Public Utilities Commission.

Comment Date: 5 p.m. Eastern Time on November 8, 2005.

3. Pacific Gas and Electric Company

[Docket No. EL06-11-000]

Take notice that on October 24, 2005, Pacific Gas and Electric Company (PG&E) petitioned the Commission to initiate a proceeding for review of the Final Award and Decision that issued September 30, 2005, in an arbitration that took place pursuant to the California Independent System Operator Corporation's tariff.

Comment Date: 5 p.m. Eastern Time on November 14, 2005.

4. Pedricktown Cogeneration Company LP

[Docket Nos. ER02-2001-000, ER03-256-000]

Take notice that on September 9, 2005, Pedricktown Cogeneration Company LP filed a request for limited waiver of Order No. 200, Electric Quarterly Reports Requirements.

Comment Date: 5 p.m. Eastern Time on November 17, 2005.

5. Cinergy Marketing & Trading, LP

[Docket No. ER05-1369-001]

Take notice that on October 24, 2005, Cinergy Services Inc., hereby submits a Supplemental Affidavit of William H. Hieronymus and associated exhibits and workpapers.

Comment Date: 5 p.m. Eastern Time on November 7, 2005.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-6110 Filed 11-3-05; 8:45 am]

BILLING CODE 6717-01-P